DEPARTMENT OF TRANSPORTATION

Pipeline and Hazardous Materials Safety Administration

Hazardous Materials: Notice of Applications for New Special Permits

AGENCY: Pipeline and Hazardous Materials Safety Administration (PHMSA), DOT.

ACTION: List of applications for special permits.

SUMMARY: In accordance with the procedures governing the application for, and the processing of, special permits from the Department of Transportation's Hazardous Material Regulations, notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before May 7, 2021.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Copies of the applications are available for inspection in the Records Center, East Building, PHH-30, 1200 New Jersey Avenue Southeast, Washington, DC.

This notice of receipt of applications for special permit is published in accordance with part 107 of the Federal hazardous materials transportation law (49 U.S.C. 5117(b); 49 CFR 1.53(b)).

Issued in Washington, DC, on April 1, 2021.
Donald P. Burger,
Chief, General Approvals and Permits Branch.

Special Permits Data
Application No. | Applicant | Regulation(s) affected | Nature of the special permits thereof
21200-N | National Aeronautics and Space Administration | 173.301(a)(1), 173.301(f)(1), 173.301(h)(3), 173.302(a)(1), 173.302(f)(2) | To authorize the transportation in commerce of non-DOT specification cylinders containing compressed air. (mode 1)
21201-N | Mitsubishi Motors North America, Inc | 172.101(j) | To authorize the transportation in commerce of lithium ion batteries exceeding 35 kg by cargo-only aircraft. (mode 4)
21203-N | Daklapack US Inc | 173.199(a) | To authorize the transportation in commerce of category B biological samples without rigid outer packaging. (modes 1, 4)
21204-N | Aegis Resource Management LLC | 172.400 | To authorize the transportation in commerce of certain waste hazardous materials when utilizing alternate hazard communication. (mode 1)
21205-N | Apollo Fusion, Inc |  | To authorize the transportation of in commerce of xenon in three-liter Composite Overwrapped Pressure Vessels that are not DOT certified. (mode 1)
21206-N | Pacira Cryotech, Inc | 171.23(a)(2)(iv), 173.304(f)(1), 173.304(f)(2) | To authorize the transportation in commerce of small cartridges manufactured to ISO 11118, and are not equipped with pressure relief devices, by air. (mode 1, 4, 5)
21208-N | LG Energy Solution, Ltd | 172.101(j) | To authorize the transportation in commerce of lithium ion batteries exceeding 35 kg by cargo-only aircraft. (mode 4)
21209-N | Atlas Air, Inc | 172.101(j) | To authorize the transportation in commerce of a material forbidden for transportation by air by cargo-only aircraft. (mode 4)

[FR Doc. 2021-07144 Filed 4-6-21; 8:45 am]

BILLING CODE 4909-60-P